DEPARTMENT OF THE INTERIOR

National Park Service

[NPS-AKR-DENA-11706; PPAKAKROZ4, PPMPSAS1Y.YP0000]

Record of Decision for the Denali Park Road Final Vehicle Management Plan and Environmental Impact Statement for Denali National Park and Preserve

AGENCY: National Park Service, Interior.

ACTION: Notice of availability.

SUMMARY: Pursuant to the National Environmental Policy Act of 1969 (NEPA), 42 U.S.C. 4332(2)(C), the National Park Service (NPS) announces the availability of a Record of Decision (ROD) for the Vehicle Management Plan and Environmental Impact Statement for Denali National Park and Preserve. The Vehicle Management Plan addresses management of all motorized vehicles on the restricted section of the Denali Park Road (Mile 15-Mile 90). This plan amends the vehicle management aspect of the park's General Management Plan (GMP). The NPS will propose a modification to the current park-specific regulations in order to implement these amendments. The NPS selected Alternative D (NPS Preferred Alternative), which offers visitors the opportunity to have a high-quality experience using a transportation system that offers predictability, efficiency, and variety. The ROD details the background of the project, the decision made (selected alternative), other alternatives considered, the basis for the decision, the environmentally preferable alternative, measures adopted to minimize environmental harm, and public involvement in the decision making process.

ADDRESSES: Copies of the ROD will be available in an electronic format online at the NPS Planning, Environmental and Public Comment Web site at http://parkplanning.nps.gov/dena. Hard copies and compact discs of the plan/FEIS are available on request by contacting: Miriam Valentine, Chief of Planning, Denali National Park and Preserve, P.O. Box 9, Denali Park, Alaska, 99755, or by telephone at (907) 733-9102.

FOR FURTHER INFORMATION CONTACT: Miriam Valentine, Chief of Planning, Denali National Park and Preserve, P.O. Box 9, Denali Park, Alaska 99755, or by telephone at (907) 733-9102.

SUPPLEMENTARY INFORMATION: Vehicle management on the Denali Park Road, the primary means of access into Denali National Park and Preserve, has been based on a GMP from 1986 and the Entrance Area and Road Corridor Development Plan (a GMP amendment) completed in 1997.

The purpose of this Vehicle Management Plan is to provide specific direction for improved vehicle management on the restricted section of the Denali Park Road for approximately the next 20 years. The plan describes how the NPS will manage vehicle use on the Park Road in order to provide visitors with an opportunity for a high-quality experience while protecting wilderness resources and values, scenic values, wildlife, and other park resources; and maintaining the unique character of the Park Road.

The Notice of Availability for the draft plan/environmental impact statement was published in the Federal Register on August 1, 2011 (FR 45848). Public meetings were held in Denali Park (August 23, 2011); Fairbanks (August 31, 2011); and Anchorage (September 7, 2011). Approximately 61 people attended the meetings. Additionally, park staff were invited by stakeholder groups to discuss the draft plan at their regular meetings. Park staff attended and presented at approximately six stakeholder meetings.

The initial 60-day public comment period, August 1 through September 30, 2011, was extended to October 31, 2011, in response to numerous requests from the public and organizations. 324 pieces of correspondence were received, containing 889 comments, during the 90-day comment period.

A preferred alternative was not identified in the draft plan to allow for refinement of the existing alternatives based on public input. The preferred alternative in the final plan addresses many of the comments and concerns that were received on the draft plan. The Notice of Availability for the final plan/environmental impact statement was published in the Federal Register on July 29, 2012 (FR 39253).

The NPS selected Alternative D (NPS Preferred Alternative). With the implementation of this alternative the number of vehicles, their schedules, and behavior will be managed to meet visitor demand while maintaining standards for desired resource conditions and visitor experience. Several times each season, key indicators will be monitored to assess the success of current traffic levels, behavior, and patterns to determine whether the set standards are being met.

Comprehensive monitoring will also be conducted at regular intervals to specifically address the impacts of traffic on wildlife, wilderness, and the visitor experience. A Before-After Control Impact (BACI) study will be conducted within the first five years of the plan's implementation to affirm the selection of key indicators and to distinguish impacts due to changes in current traffic patterns and traffic levels. Data from long-term inventory and monitoring programs may also be used to evaluate whether changes in the resource condition are occurring.

In addition to managing for desired conditions, the maximum level of vehicle use on the restricted section of the Park Road will be 160 vehicles per 24-hour period. This limit includes all motor vehicles counted westbound at the Savage River Check Station. The 160-vehicle limit is derived from traffic model simulation results and extensive scientific research on visitor preferences and resource condition.

Dated: February 14, 2013.
Joel L. Hard,
Deputy Regional Director, Alaska.

[FR Doc. 2013-09675 Filed 4-23-13; 8:45 am]

BILLING CODE 4310-EF-P